DEPARTMENT OF THE INTERIOR

Fish and Wildlife Service

[FWS-R6-R-2008-N0346; 60138-1265-6CCP-S3]

Final Comprehensive Conservation Plan for Pathfinder National Wildlife Refuge, Wyoming

AGENCY: Fish and Wildlife Service, Interior.

ACTION: Notice of Availability.

SUMMARY: We, the U.S. Fish and Wildlife Service (Service) announce that the Final Comprehensive Conservation Plan (CCP) for the Pathfinder National Wildlife Refuge (NWR) is available. This CCP, prepared pursuant to the National Wildlife Refuge System Improvement Act of 1997 and the National Environmental Policy Act of 1969, describes how the Service intends to manage the Pathfinder NWR for the next 15 years.

ADDRESSES: A copy of the CCP or Summary may be obtained by writing to U.S. Fish and Wildlife Service, Division of Refuge Planning, 134 Union Boulevard, Suite 300, Lakewood, Colorado 80228, or downloaded from http://mountain-prairie.fws.gov/planning.

FOR FURTHER INFORMATION CONTACT: Toni Griffin, 303-236-4378 (phone); 303-236-4792 (fax); or toni_griffin@fws.gov (e-mail).

SUPPLEMENTARY INFORMATION: Located in central Wyoming in a high plains basin near the headwaters of the Platte-Kansas Ecosystem, Pathfinder National Wildlife Refuge (NWR) lies approximately 47 miles southwest of Casper, Wyoming. The Pathfinder NWR is managed by Service staff headquartered at the Arapaho NWR near Walden, Colorado.

Pathfinder NWR was established by Executive Order 7425, August 1, 1936, which designated the Pathfinder Wildlife Refuge, “as a refuge and breeding ground for birds and other wildlife.” Pathfinder NWR was established as an overlay refuge on Bureau of Reclamation lands. The Bureau of Reclamation administers lands within the Pathfinder Project boundary for North Platte Project purposes including flood control, irrigation and hydroelectric power generation. A Memorandum of Agreement specifies the management responsibilities of the U.S. Fish and Wildlife Service while preserving the autonomy of Bureau of Reclamation to manage Pathfinder Dam and Reservoir.

This final CCP identifies goals, objectives, and strategies for the management of Pathfinder NWR that emphasize management of refuge habitats for migratory birds. The CCP places high importance on obtaining baseline data for the refuge, control of invasive plant species, and utilizing partnerships to support the purposes of the refuge. It seeks to provide habitats to contribute to conservation, enhancement, and production of migratory bird species while protecting Federally listed species.

The availability of the draft CCP and Environmental Assessment (EA) was announced in the Federal Register on July 28, 2008 (73 FR 43777-78), and made available for a 30-day public review and comment period. The draft CCP/EA evaluated three alternatives for managing Pathfinder NWR for the next 15 years.

The preferred alternative would modify the Memorandum of Agreement between the Bureau of Reclamation and the Service to eliminate Service interest in lands (approximately 10,800 acres) that are difficult to manage and provide minimal opportunity to improve wildlife habitat. Remaining refuge areas will be evaluated and managed for the benefit of migratory bird species. Monitoring and management of invasive species on the refuge will be increased. With additional staffing, the Service will collect baseline biological information for wildlife and habitats. Wildlife-dependent recreation opportunities will be provided and enhanced where compatible with refuge purposes. Efforts will be increased to maintain and develop partnerships that promote wildlife and habitat research and management. This will enable the Service to focus efforts on manageable lands, thereby enhancing refuge management and efficiently directing refuge resources toward accomplishing the mission of the Refuge System.

The preferred alternative was selected because it best meets the purposes and goals of the refuge, as well as the mission and goals of the National Wildlife Refuge System. The preferred alternative will benefit shore birds, migrating and nesting waterfowl, and resident wildlife. Environmental education and partnerships will result in improved wildlife-dependent recreational opportunities. Cultural and historical resources as well as Federally listed species will be protected.

We are furnishing this notice to advise other agencies and the public of the availability of the final CCP and provide information about the desired conditions for the Pathfinder NWR. Based on the review and evaluation of the information contained in the EA, the Regional Director has determined that implementation of the Final Plan does not constitute a major Federal action that would significantly affect the quality of the human environment within the meaning of Section 102(2)(c) of the National Environmental Policy Act. Therefore, an Environmental Impact Statement will not be prepared.

Dated: January 7,2009.
Noreen E. Walsh,
Deputy Regional Director.

Editorial Note: This document was received in the Office of the Federal Register on May 19, 2009.

[FR Doc. E9-12002 Filed 5-21-09; 8:45 am]

BILLING CODE 4310-55-P